DEPARTMENT OF THE INTERIOR

Bureau of Land Management

[NV030-08-1430-ER; 09-08807; TAS: 14X1109]

Notice of Intent To Prepare an Environmental Impact Statement for the New Comstock Wind Energy Project, Nevada

AGENCY: Bureau of Land Management, Interior.

ACTION: Notice of intent.

SUMMARY: The Bureau of Land Management (BLM) Carson City District Office intends to prepare an Environmental Impact Statement (EIS) for the Great Basin Wind New Comstock Wind Energy Project proposal in Carson City, Lyon, Storey, and Washoe counties. This notice announces the beginning of the scoping process and solicits input on the identification of issues.

DATES: The BLM will accept comments until December 26, 2008. A public scoping meeting will be held regarding the EIS on Wednesday, December 10, 2008, from 4 p.m. to 7 p.m. at the BLM's Carson City District Office, 5665 Morgan Mill Road, Carson City, Nevada.

ADDRESSES: Submit written comments to:

• BLM Carson City District Office, Attn: New Comstock Wind Energy Project EIS Project Manager, 5665 Morgan Mill Road, Carson City, NV 89701.

• Fax: (775) 885-6147.

• E-mail: newcomstockwind@blm.gov.

Documents pertinent to this proposal may be examined at the Carson City District Office.

FOR FURTHER INFORMATION CONTACT: For further information and to have your name added to the Comstock EIS mailing list, call Mark Struble (775) 885-6107; or e-mail newcomstockwind@blm.gov.

SUPPLEMENTARY INFORMATION: The EIS for the New Comstock Wind Energy Project (Project) will analyze the direct, indirect, and cumulative impacts resulting from construction and operation of a commercial wind turbine facility proposed in a right-of-way application submitted by Great Basin Wind, LLC. The proposed project includes the construction of approximately 69 wind turbines with the potential of producing 192 megawatts of electricity. The turbine towers would be 210 feet to 330 feet tall supporting a nacelle and three blades 115 feet to 170 feet in length. Turbine units would be connected to a proposed electric substation by approximately 20 miles of underground electrical distribution system. A proposed 120 kV overhead transmission line approximately 5 miles in length would connect the new substation to an existing substation operated by NV Energy located near U.S. Highway 50 east of Carson City. A series of 15 feet to 40 feet wide access roads will be improved or constructed to facilitate site development. Other facilities will include several small outbuildings for storage of materials and temporary work areas and storage yards.

The purpose of the public scoping process is to determine relevant issues that will influence the scope of the environmental analysis, including alternatives, and guide the EIS process. The EIS will address issues brought forth through scoping and will be evaluated by an interdisciplinary team of BLM and other agency specialists. A range of alternatives and mitigating measures will be considered to evaluate and minimize environmental impacts and to assure that the proposed actions do not result in undue or unnecessary degradation of public lands. Federal, State, and local agencies and other individuals and organizations that may be interested in or affected by the BLM decision on the New Comstock Wind Energy Project are urged to participate in the EIS process. It is important that those interested in the proposed activities participate in the scoping and commenting processes of the EIS.

Written comments may be provided to BLM at the public scoping meetings or may be submitted to the BLM using one of the methods listed in the Addresses section. Before including your address, phone number, e-mail address, or other personal identifying information in your comment, you should be aware that your entire comment—including your personal identifying information—may be made publically available at any time. While you can ask us in your comment to withhold your personal identifying information from public review, we cannot guarantee that we will be able to do so.

Authority: 43 CFR 2804.

Dated: November 14, 2008.
Linda J. Kelly,
Field Manager, Sierra Front Field Office.

[FR Doc. E8-28198 Filed 11-25-08; 8:45 am]

BILLING CODE 4310-HC-P